DEPARTMENT OF COMMERCE

International Trade Administration

[A-560-826]

Monosodium Glutamate From the Republic of Indonesia: Notice of Initiation and Preliminary Results of Changed Circumstances Review

AGENCY: Enforcement and Compliance, International Trade Administration, Department of Commerce.

SUMMARY: In response to a request for a changed circumstances review (CCR), the U.S. Department of Commerce (Commerce) is initiating a CCR of the antidumping duty (AD) order on monosodium glutamate (MSG) from the Republic of Indonesia (Indonesia). We preliminarily determine that PT. Daesang Ingredients Indonesia (PT. Daesang) is the successor-in-interest to PT. Miwon Indonesia (PT. Miwon). Interested parties are invited to comment on these preliminary results.

DATES: Applicable July 6, 2022.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On November 26, 2014, Commerce published the AD order on MSG from Indonesia in the Federal Register.¹ In the most recent administrative review of the Order covering the period November 1, 2019, through October 31, 2020, PT. Miwon was assigned the cash deposit rate of 1.60 percent as a mandatory company respondent.²

¹ See Monosodium Glutamate from the People's Republic of China, and the Republic of Indonesia: Antidumping Duty Orders; and Monosodium Glutamate from the Republic of China: Amended Final Determination of Sales at Less Than Fair Value, 79 FR 70505 (November 26, 2014) (Order).

² See Monosodium Glutamate from the Republic of Indonesia: Final Results of Antidumping Duty Administrative Review; 2019-2020, 87 FR 18767 (March 31, 2022).

On March 10, 2022, PT. Daesang requested that Commerce conduct an expedited CCR to find that PT. Daesang is the successor-in-interest to PT. Miwon due to a change in the company's name (i.e., PT. Miwon to PT. Daesang).³ In its submission, PT. Daesang addressed the factors Commerce analyzes with respect to successor-in-interest determinations in the AD context and provided supporting documentation.⁴ Commerce received no comments from interested parties on PT. Daesang's CCR Request.

³ See PT. Daesang's Letter, “Monosodium Glutamate (MSG) from Indonesia: Request to Initiate a Successor-in-Interest Changed Circumstances Review for PT. Daesang Ingredients Indonesia,” dated March 10, 2022 (PT. Daesang's CCR Request).

⁴ Id.

Scope of the Order

The merchandise covered by the Order is MSG from Indonesia. For a full description of the merchandise covered by the scope of the Order, see the Preliminary Decision Memorandum.⁵

⁵ See Memorandum, “Decision Memorandum for the Initiation and Preliminary Results of the Changed Circumstances Review of the Antidumping Duty Order on Monosodium Glutamate from the Republic of Indonesia: PT. Daesang Ingredients Indonesia,” dated concurrently with, and hereby adopted by, this notice (Preliminary Decision Memorandum).

Initiation of Changed Circumstances Review

Pursuant to section 751(b)(1) of the Tariff Act of 1930, as amended (the Act), and 19 CFR 351.216, Commerce will conduct a CCR upon receipt of a request from an interested party for a review of an AD order that shows changed circumstances sufficient to warrant a review of the order.⁶ The information submitted by PT. Daesang supporting its claim that PT. Daesang is the successor-in-interest to PT. Miwon demonstrates changed circumstances sufficient to initiate a review.⁷

⁶ See 19 CFR 351.216(c).

⁷ See 19 CFR.351.216(d).

The information submitted by PT. Daesang demonstrates that its request is based solely on a change in the name of the company from “PT. Miwon Indonesia” to “PT. Daesang Ingredients Indonesia,” effective November 2021.⁸ Moreover, the evidence submitted in support of PT. Daesang's request demonstrates that PT. Daesang is otherwise the same business entity as PT. Miwon. Therefore, in accordance with the regulation referenced above, Commerce is initiating a CCR to determine whether PT. Daesang is the successor-in-interest to PT. Miwon.

⁸ See PT. Daesang's CCR Request at Exhibit 2. The specific effective date of the name change is business proprietary information and is not available for public summary.

Preliminary Results of the Changed Circumstances Review

When Commerce concludes that expedited action is warranted, it may publish the notice of initiation and preliminary results of a CCR concurrently.⁹ Commerce has combined the notice of initiation and preliminary results in successor-in-interest cases when sufficient documentation has been provided supporting the request to make a preliminary determination.¹⁰ In this instance, because we have information on the record to support the request for a preliminary determination and no other interested party submitted comments, we find that expedited action is warranted, and we are combining the notice of initiation and the notice of preliminary results of review, in accordance with 19 CFR 351.221(c)(3)(ii).

⁹ See 19 CFR 351.221(c)(3)(ii).

¹⁰ See, e.g., Certain Frozen Freshwater Shrimp from India: Notice of Initiation and Preliminary Results of Antidumping Duty Changed Circumstances Review, 85 FR 57192 (September 15, 2020) (Hyson CCR Initiation and Preliminary Results), unchanged in Certain Frozen Freshwater Shrimp from India: Notice of Final Results of Antidumping Duty Changed Circumstances Review, 85 FR 70584 (November 5, 2020) (Hyson CCR Final Results).

In a CCR, Commerce generally consider a company to be the successor to another company for AD cash deposit purposes if the operations of the successor are not materially dissimilar from those of its predecessor.¹¹ In making this determination, Commerce examines a number of factors including, but not limited to, changes in: (1) management; (2) production facilities; (3) suppliers; and (4) customer base.¹² While no single factor or combination of factors is dispositive, Commerce will generally consider one company to be the successor to another if its resulting operations are essentially the same as that of its predecessor.¹³ Thus, if the evidence demonstrates that, with respect to the production and sale of the subject merchandise, the new company operates as the same business entity as the prior company, Commerce will assign the new company the cash deposit rate of its predecessor.¹⁴

¹¹ Id.

¹² See, e.g., Heavy Walled Rectangular Welded Carbon Steel Pipes and Tubes from Turkey: Notice of Initiation and Preliminary Results of Changed Circumstances Review, 86 FR 70443 (December 10, 2021) at 86 70444, unchanged in Heavy Walled Rectangular Welded Carbon Steel Pipes and Tubes from Turkey: Final Results of Changed Circumstances Review, 87 FR 3763 (January 25, 2022).

¹³ Id.

¹⁴ See, e.g., Hyson CCR Initiation and Preliminary Results, unchanged in Hyson CCR Final Results.

In its CCR request, PT. Daesang provided evidence demonstrating that its operations are not materially dissimilar from those of PT. Miwon. Based on the record, we preliminarily determine that PT. Daesang is the successor-in-interest to PT. Miwon. For a complete discussion of the information that PT. Daesang provided, including business proprietary information and the complete successor-in-interest analysis, see the Preliminary Decision Memorandum. A list of topics discussed in the Preliminary Determination Memorandum is included as the appendix to this notice. The Preliminary Determination Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

Any interested party may request a hearing within 14 days of publication of this notice, in accordance with 19 CFR 351.310(c).¹⁵ Interested parties may submit case briefs no later than 14 days after the date of publication of this notice.¹⁶ Rebuttal briefs, limited to issues raised in the case briefs, may be filed no later than seven days after the deadline for case briefs, in accordance with 19 CFR 351.309(d). Parties who submit case or rebuttal briefs in this CCR are requested to submit with each argument: (1) a statement of the issue; (2) a brief summary of the argument; and (3) a table of authorities.¹⁷ All comments are to be filed electronically using ACCESS, and must be served on interested parties. An electronically filed document must be received successfully in its entirety by ACCESS by 5:00 p.m. Eastern Time on the day it is due.¹⁸ Please note that Commerce has temporarily modified certain requirements for serving documents containing business proprietary information, until further notice.¹⁹

¹⁵ Commerce is exercising its discretion under 19 CFR 351.310(c) to alter the time limit for requesting a hearing.

¹⁶ Commerce is exercising its discretion under 19 CFR 351.309(c)(1)(ii) to alter the time limit for the filing of case briefs.

¹⁷ See 19 CFR 351.309(c)(2) and (d)(2).

¹⁸ See 19 CFR 351.303(b).

¹⁹ See Temporary Rule Modifying AD/CVD Service Requirements Due to COVID-19; Extension of Effective Period, 85 FR 41363 (July 10, 2020).

Consistent with 19 CFR 351.216(e), we will issue the final results of this CCR no later than 270 days after the date on which this review was initiated, or within 45 days of publication of these preliminary results in the Federal Register if all parties agree to this preliminary finding.

Notification to Interested Parties

We are issuing and publishing this initiation and preliminary results notice in accordance with sections 751(b)(1) and 777(i) of the Act, 19 CFR 351.216, and 19 CFR 351.221(c)(3).

Dated: June 28, 2022.
Ryan Majerus,
Deputy Assistant Secretary for Policy and Negotiations.

Appendix

List of Topics Discussed in the Preliminary Decision Memorandum

I. Summary

II. Background

III. Scope of the Order

IV. Initiation and Preliminary Results of the Changed Circumstances Review

V. Success-in-Interest Determination

VI. Conclusion

VII. Recommendation

[FR Doc. 2022-14283 Filed 7-5-22; 8:45 am]

BILLING CODE 3510-DS-P